INTERNATIONAL TRADE COMMISSION

[Investigation Nos. 701-TA-712-715 and 731-TA-1679-1682 (Final)]

Ferrosilicon From Brazil, Kazakhstan, Malaysia, and Russia; Revised Schedule for the Subject Investigations

AGENCY: United States International Trade Commission.

ACTION: Notice.

DATES: August 6, 2024.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective June 28, 2024, the Commission established a schedule for the conduct of the final phase of the subject investigations (89 FR 56407, July 9, 2024) following the U.S. Department of Commerce's (“Commerce”) preliminary affirmative countervailing duty and sales-at-less-than-fair-value determinations with respect to ferrosilicon from Russia (89 FR 53949 and 53953, June 28, 2024). Commerce subsequently extended the date for its final determination in the countervailing duty investigation with respect to Russia. The Commission is revising its schedule to conform with Commerce's new schedule.

The Commission's revised dates in the schedule are as follows: the prehearing staff report will be placed in the nonpublic record on August 28, 2024; the deadline for filing prehearing briefs is 5:15 p.m. on September 5, 2024; requests to appear at the hearing must be filed with the Secretary to the Commission not later than 5:15 p.m. on September 6, 2024; the prehearing conference will be held at the U.S. International Trade Commission Building on September 11, 2024, if deemed necessary; the hearing will be held at the U.S. International Trade Commission Building at 9:30 a.m. on September 12, 2024; the deadline for filing posthearing briefs is 5:15 p.m. on September 19, 2024; the Commission will make its final release of information on October 7, 2024; and final party comments are due by 5:15 p.m. on October 9, 2024.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: August 6, 2024.
Sharon Bellamy,
Supervisory Hearings and Information Officer.

[FR Doc. 2024-17817 Filed 8-9-24; 8:45 am]

BILLING CODE 7020-02-P